LEGAL SERVICES CORPORATION

Sunshine Act Meeting of the Board of Directors

TIME AND DATE: The Board of Directors of the Legal Services Corporation will meet on November 27, 2007 via conference call. The meeting will begin at 2 p.m., and continue until conclusion of the Board's agenda.

LOCATION: 3333 K Street, NW., Washington, DC 20007, 3rd Floor Conference Center.

STATUS OF MEETING: Open, except that a portion of the meeting of the Board of Directors may be closed to the public pursuant to a vote of the Board of Directors to hold an executive session to consider and act on its response to the U.S. Government Accountability Office's Draft Report on LSC's oversight and management of its grants to legal services programs.

A verbatim written transcript of the session will be made. The transcript of any portions of the closed session falling within the relevant provisions of the Government in the Sunshine Act, 5 U.S.C. 552b(c)(9)(B), and the corresponding provision of the Legal Services Corporation's implementing regulation, 45 CFR 1622.5(g), will not be available for public inspection. The transcript of any portions not falling within the cited provisions will be available for public inspection. A copy of the General Counsel's Certifications that the closings are authorized by law will be available upon request.

Directors will participate by telephone conference in such a manner as to enable interested members of the public to hear and identify all persons participating in the meeting. Members of the public may observe/hear the public session meeting by joining participating staff at the location indicated above or calling 1-800-857-5485.

MATTERS TO BE CONSIDERED:

Agenda

Open Session

1. Approval of agenda.

2. Consider and act on Board of Directors' response to the Inspector General's Semiannual Report to Congress for the period of April 1, 2007 through September 30, 2007.

3. Consider and act on other business.

4. Public comment.

5. Consider and act on whether to authorize an executive session of the Board to consider and act on a response to the U.S. Government Accountability Office's draft report on LSC's oversight and management of LSC grants to legal services programs.

Closed Session

6. Consider and act on response to the U.S. Government Accountability Office's draft report on LSC's oversight and management of LSC grants to legal services programs.

7. Consider and act on motion to adjourn meeting.

FOR FURTHER INFORMATION CONTACT: Patricia Batie, Manager of Board Operations, at (202) 295-1500 or pbatie@lsc.gov.

Special Needs: Upon request, meeting notices will be made available in alternate formats to accommodate visual and hearing impairments. Individuals who have a disability and need an accommodation to attend the meeting may notify Patricia Batie at (202) 295-1500 or pbatie@lsc.gov.

Dated: November 16, 2007.
Victor M. Fortuno,
Vice President, General Counsel & Corporate Secretary.

[FR Doc. 07-5796 Filed 11-19-07; 11:39 am]

BILLING CODE 7050-01-P